DEPARTMENT OF COMMERCE

International Trade Administration

(A-570-506, A-583-508)

Porcelain-on-Steel Cooking Ware from the People's Republic of China and Taiwan; Five-year (“Sunset”) Reviews of Antidumping Duty Orders; Final Results

AGENCY: Import Administration, International Trade Administration, Department of Commerce.

SUMMARY: On March 1, 2005, the Department of Commerce (“the Department”) initiated a sunset review of the antidumping duty orders on porcelain-on-steel cooking ware from the People's Republic of China (“PRC”) and Taiwan, pursuant to section 751(c) of the Tariff Act of 1930, as amended, (“the Act”). On the basis of the notice of intent to participate and adequate substantive responses filed on behalf of the domestic interested parties, and inadequate responses from respondent interested parties, the Department conducted expedited sunset reviews. As a result of these sunset reviews, the Department finds that revocation of the antidumping duty orders would likely lead to continuation or recurrence of dumping at the levels listed below in the section entitled “Final Results of Reviews.”

EFFECTIVE DATE: October 5, 2005.

FOR FURTHER INFORMATION CONTACT: Maureen Flannery, AD/CVD Operations, Import Administration, International Trade Administration, U.S. Department of Commerce, 14th Street and Constitution Avenue, NW, Washington, DC, 20230; telephone: (202) 482-3020.

SUPPLEMENTARY INFORMATION:

Background

On March 1, 2005, the Department initiated sunset reviews of the antidumping duty orders on porcelain-on-steel cooking ware from the PRC and Taiwan pursuant to section 751(c) of the Act. See Initiation of Five-year (“Sunset”) Reviews, 70 FR 9919 (March 1, 2005). The Department received notices of intent to participate from a domestic interested party, Columbian Home Products, LLC (“Columbian”), within the deadline specified in section 351.218(d)(1)(i) of the Department's regulations. Columbian claimed interested party status pursuant to section 771(9)(C) of the Act as a U.S. producer of the domestic like product. We received a submission from the domestic interested party within the 30-day deadline specified in section 351.218(d)(3)(I) of the Department's regulations. However, we did not receive submissions from any respondent interested parties. As a result, pursuant to section 751(c)(3)(B) of the Act and section 351.218(e)(1)(ii)(C)(2) of the Department's regulations, the Department conducted expedited sunset reviews of these orders.

Scope of the Orders

PRC

The merchandise covered by this order is porcelain-on-steel cooking ware from the PRC, including tea kettles, which do not have self-contained electric heating elements. All of the foregoing are constructed of steel and are enameled or glazed with vitreous glasses. The merchandise is currently classifiable under the Harmonized Tariff Schedule (“HTS”) item 7323.94.00. HTS items numbers are provided for convenience and customs purposes. The written description of the scope remains dispositive.

In response to a request from CGS International, on January 30, 1991, the Department clarified that high quality, hand finished cookware, including the small basin, medium basin, large basin, small colander, large colander, 8” bowl, 6” bowl, mugs, ash tray, napkin rings, utensil holder and utensils, ladle, cream & sugar, and mixing bowls are properly considered kitchen ware and are, therefore, outside the scope of the order. Further, the Department clarified that CGS International's casserole, 12-cup coffee pot, 6-cup coffee pot, roasting pan, oval roaster, and butter warmer are within the scope of the order (see Notice of Scope Rulings, 56 FR 19833 (April 30, 1991)).

In response to a request from Texsport, on August 8, 1990, the Department determined that camping sets, with the exception of the cups and plates included in those sets, are within the scope of the order (see Notice of Scope Rulings, 55 FR 43020 (October 25, 1990)).

On March 8, 2000, Tristar Products' grill set with aluminum grill plate was found to be outside the scope of the order (see Notice of Scope Rulings, 65 FR 41957 (July 7, 2000)).

On October 29, 2003, Target Corporation's certain enamel-clad beverage holders and dispensers were found to be outside the scope of the order (see Notice of Scope Rulings, 70 FR 24533 (May 10, 2005)).

On January 4, 2005, Taybek International's Pro Popper professional popcorn popper was found to be within the scope of the order (see Notice of Scope Rulings, 70 FR 41374 (July 19, 2005)).

Taiwan

The merchandise covered by this order is porcelain-on-steel cooking ware from Taiwan that do not have self-contained electric heating elements. All of the foregoing are constructed of steel and are enameled or glazed with vitreous glasses. Kitchen ware and teakettles are not subject to this order The merchandise is currently classifiable under the HTS item number 7323.94.00. The HTS subheading is provided for convenience and customs purposes. The written description of the scope remains dispositive.

On August 23, 1990, in response to a request from RSVP, BBQ grill baskets were found to be outside the scope of the order (see Notice of Scope Rulings, 55 FR 43020 (October 25, 1990)).

On September 3, 1992, in response to a request from Mr. Stove Ltd., stove top grills and drip pans were found to be outside the scope of the order (see Notice of Scope Rulings, 57 FR 57420 (December 4, 1992)).

On September 25, 1992, in response to a request from Metrokane Inc., the “Pasta Time” pasta cooker was found to be within the scope of the order (see Notice of Scope Rulings, 57 FR 57420 (December 4, 1992)).

On August 18, 1995, Blair Corporation's Blair cooking ware items #1101 (seven piece cookware set), #271911 (eight-quart stock pot), and #271921 (twelve-quart stock pot) were found to be outside the scope of the order (see Notice of Scope Rulings, 60 FR 54213 (October 20, 1995)).

On October 30, 1996, Cost Plus, Inc.'s 10 piece porcelain-on-steel fondue set was found to be within the scope of the order (see Notice of Scope Rulings, 62 FR 9176 (February 28, 1997)).

Analysis of Comments Received

All issues raised in these cases are addressed in the “Issues and Decision Memorandum” from Barbara E. Tillman, Acting Deputy Assistant Secretary for Import Administration, to Holly A. Kuga, Acting Assistant Secretary for Import Administration, dated September 27, 2005 (“Decision Memorandum”), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department of Commerce building.

In addition, a complete version of the Decision Memorandum can be accessed directly on our Web site at http://ia.ita.doc.gov. The paper copy and electronic version of the Decision Memorandum are identical in content.

Final Results of Reviews

We determine that revocation of the antidumping duty orders on porcelain-on-steel cooking ware from the PRC and Taiwan would likely lead to continuation or recurrence of dumping at the following percentage weighted-average margins:

Manufacturers/Exporters/Producers | Weighted-Average Margin (Percent)
PRC
China National Light Industrial Products Import and Export Corporation | 66.65
PRC-wide Rate | 66.65
Taiwan
First Enamel Industrial Corp. | 9.04
Tian Shine Enterprise Co., Ltd. | 1.99
Tou Tien Metal (Taiwan) Co., Ltd. | 2.67
Li-Fong Industrial Co., Ltd. | 2.63
Li-Mow Enameling Co. Ltd. | 6.48
Receive Will Industry Co. | 23.12
All Others Rate | 6.82

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: September 27, 2005.
Holly A. Kuga,
Acting Assistant Secretary for Import Administration.

[FR Doc. E5-5456 Filed 10-5-05; 8:45 am]

BILLING CODE 3510-DS-S